DEPARTMENT OF TRANSPORTATION

Federal Aviation Administration

14 CFR Part 97

[Docket No. 31082; Amdt. No. 3701]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 11, 2016. The compliance date for each SIAP, associated Takeoff Minimums, and ODP is specified in the amendatory provisions.

The incorporation by reference of certain publications listed in the regulations is approved by the Director of the Federal Register as of July 11, 2016.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on June 17, 2016.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

* * * Effective 21 JULY 2016

Unalaska, AK, Unalaska, Takeoff Minimums and Obstacle DP, Amdt 5

Page, AZ, Page Muni, Takeoff Minimums and Obstacle DP, Amdt 2A

Madera, CA, Madera Muni, RNAV (GPS) RWY 12, Amdt 1

Madera, CA, Madera Muni, RNAV (GPS) RWY 30, Amdt 1

Madera, CA, Madera Muni, Takeoff Minimums and Obstacle DP, Amdt 4

San Francisco, CA, San Francisco Intl, ILS OR LOC RWY 28L, ILS RWY 28L (SA CAT II), Amdt 25A

San Francisco, CA, San Francisco Intl, ILS OR LOC RWY 28R, ILS RWY 28R (SA CAT I), ILS RWY 28R (CAT II), ILS RWY 28R (CAT III), Amdt 13A

San Francisco, CA, San Francisco Intl, RNAV (GPS) RWY 28L, Amdt 5A

San Francisco, CA, San Francisco Intl, RNAV (GPS) Z RWY 28R, Amdt 5A

San Francisco, CA, San Francisco Intl, RNAV (RNP) Y RWY 28R, Amdt 3A

San Jose, CA, Norman Y Mineta San Jose Intl, ILS OR LOC RWY 12R, Amdt 8A

San Jose, CA, Norman Y Mineta San Jose Intl, ILS OR LOC RWY 30L, ILS RWY 30L (SA CAT I), ILS RWY 30L (SA CAT II), Amdt 25

San Jose, CA, Norman Y Mineta San Jose Intl, RNAV (GPS) Y RWY 12L, Amdt 3A

San Jose, CA, Norman Y Mineta San Jose Intl, RNAV (GPS) Y RWY 12R, Amdt 3A

San Jose, CA, Norman Y Mineta San Jose Intl, RNAV (GPS) Y RWY 30L, Amdt 3A

San Jose, CA, Norman Y Mineta San Jose Intl, RNAV (GPS) Y RWY 30R, Amdt 3A

San Jose, CA, Norman Y Mineta San Jose Intl, RNAV (RNP) Z RWY 12L, Amdt 2A

San Jose, CA, Norman Y Mineta San Jose Intl, RNAV (RNP) Z RWY 12R, Amdt 3A

San Jose, CA, Norman Y Mineta San Jose Intl, RNAV (RNP) Z RWY 30L, Amdt 2A

San Jose, CA, Norman Y Mineta San Jose Intl, RNAV (RNP) Z RWY 30R, Amdt 1A

Van Nuys, CA, Van Nuys, ILS Y RWY 16R, Amdt 6

Van Nuys, CA, Van Nuys, ILS Z RWY 16R, Orig

Van Nuys, CA, Van Nuys, VOR-A, Amdt 4B

Van Nuys, CA, Van Nuys, VOR-B, Amdt 3

Miami, FL, Miami Intl, ILS OR LOC RWY 26L, Amdt 16

Miami, FL, Miami Intl, ILS OR LOC RWY 27, Amdt 26

Miami, FL, Miami Intl, RNAV (GPS) RWY 26R, Amdt 3

Miami, FL, Miami Intl, RNAV (GPS) Z RWY 26L, Amdt 2

Miami, FL, Miami Intl, RNAV (GPS) Z RWY 27, Amdt 3

Miami, FL, Miami Intl, RNAV (RNP) Y RWY 26L, Amdt 1

Miami, FL, Miami Intl, RNAV (RNP) Y RWY 27, Amdt 2

Macon, GA, Macon Downtown, LOC RWY 10, Amdt 8

Macon, GA, Macon Downtown, RNAV (GPS) RWY 10, Amdt 2

Macon, GA, Macon Downtown, RNAV (GPS) RWY 28, Amdt 2

Macon, GA, Macon Downtown, Takeoff Minimums and Obstacle DP, Amdt 7

Moultrie, GA, Moultrie Muni, NDB-A, Orig-B

Tifton, GA, Henry Tift Myers, ILS OR LOC RWY 33, Amdt 2

Tifton, GA, Henry Tift Myers, RNAV (GPS) RWY 15, Orig

Tifton, GA, Henry Tift Myers, RNAV (GPS) RWY 28, Amdt 1

Tifton, GA, Henry Tift Myers, RNAV (GPS) RWY 33, Amdt 1

Tifton, GA, Henry Tift Myers, Takeoff Minimums and Obstacle DP, Amdt 6

Tifton, GA, Henry Tift Myers, VOR RWY 28, Amdt 10A, CANCELED

Hailey, ID, Friedman Memorial, RNAV (GPS) W RWY 31, Amdt 2, CANCELED

Hailey, ID, Friedman Memorial, RNAV (GPS) X RWY 31, Orig

Hailey, ID, Friedman Memorial, RNAV (GPS) X RWY 31, Amdt 1, CANCELED

Hailey, ID, Friedman Memorial, RNAV (GPS) Y RWY 31, Orig

Hailey, ID, Friedman Memorial, RNAV (RNP) Y RWY 31, Amdt 1B, CANCELED

Hailey, ID, Friedman Memorial, Takeoff Minimums and Obstacle DP, Amdt 3

Paris, IL, Edgar County, RNAV (GPS) RWY 9, Amdt 1

Paris, IL, Edgar County, RNAV (GPS) RWY 18, Orig

Paris, IL, Edgar County, RNAV (GPS) RWY 27, Amdt 1

Paris, IL, Edgar County, RNAV (GPS) RWY 36, Orig

Paris, IL, Edgar County, Takeoff Minimums and Obstacle DP, Amdt 1

Coldwater, KS, Comanche County, RNAV (GPS) RWY 17, Orig

Coldwater, KS, Comanche County, Takeoff Minimums and Obstacle DP, Orig

Harlan, KY, Tucker-Guthrie Memorial, RNAV (GPS)-A, Orig

Harlan, KY, Tucker-Guthrie Memorial, Takeoff Minimums and Obstacle DP, Orig

Richmond, KY, Central Kentucky Regional, RNAV (GPS) RWY 18, Amdt 1D

Richmond, KY, Central Kentucky Regional, RNAV (GPS) RWY 36, Amdt 2B

Richmond, KY, Central Kentucky Regional, Takeoff Minimums and Obstacle DP, Amdt 1A

Richmond, KY, Central Kentucky Regional, VOR RWY 18, Amdt 7B

Cambridge, MD, Cambridge-Dorchester Rgnl, NDB RWY 34, Amdt 8

Cambridge, MD, Cambridge-Dorchester Rgnl, RNAV (GPS) RWY 34, Orig

Cambridge, MD, Cambridge-Dorchester Rgnl, Takeoff Minimums and Obstacle DP, Amdt 2

Presque Isle, ME, Northern Maine Rgnl Arpt at Presque IS, RNAV (GPS) RWY 28, Amdt 1A

Holly Springs, MS, Holly Springs-Marshall County, RNAV (GPS) RWY 18, Orig

Holly Springs, MS, Holly Springs-Marshall County, RNAV (GPS) RWY 36, Orig

Holly Springs, MS, Holly Springs-Marshall County, VOR RWY 18, Amdt 7

Beach, ND, Beach, RNAV (GPS) RWY 12, Orig

Beach, ND, Beach, RNAV (GPS) RWY 30, Orig

Beach, ND, Beach, Takeoff Minimums and Obstacle DP, Orig

Hornell, NY, Hornell Muni, RNAV (GPS) RWY 18, Orig-A

Enid, OK, Enid Woodring Rgnl, ILS OR LOC RWY 35, Amdt 6

Ketchum, OK, South Grand Lake Rgnl, Takeoff Minimums and Obstacle DP, Orig

Newport, OR, Newport Muni, ILS OR LOC RWY 16, Amdt 2

Newport, OR, Newport Muni, RNAV (GPS) RWY 16, Amdt 1

Newport, OR, Newport Muni, RNAV (GPS) RWY 34, Amdt 1

Newport, OR, Newport Muni, VOR RWY 16, Amdt 9

Newport, OR, Newport Muni, VOR-A, Amdt 5

Titusville, PA, Titusville, RNAV (GPS) RWY 1, Orig

Titusville, PA, Titusville, RNAV (GPS) RWY 19, Orig

Titusville, PA, Titusville, VOR OR GPS-A, Amdt 5, CANCELED

Martin, SD, Martin Muni, RNAV (GPS) RWY 32, Orig-A

Winner, SD, Winner Rgnl, RNAV (GPS) RWY 31, Amdt 1

Winner, SD, Winner Rgnl, Takeoff Minimums and Obstacle DP, Amdt 4

Union City, TN, Everett-Stewart Rgnl, ILS OR LOC RWY 1, Amdt 3

Union City, TN, Everett-Stewart Rgnl, RNAV (GPS) RWY 1, Amdt 4

Union City, TN, Everett-Stewart Rgnl, RNAV (GPS) RWY 19, Amdt 2

Union City, TN, Everett-Stewart Rgnl, VOR/DME-A, Amdt 9, CANCELED

Spokane, WA, Felts Field, ILS OR LOC RWY 22R, Amdt 1D

Spokane, WA, Felts Field, VOR RWY 4L, Amdt 6

Sutton, WV, Braxton County, Takeoff Minimums and Obstacle DP, Amdt 1

Big Piney, WY, Miley Memorial Field, Takeoff Minimums and Obstacle DP, Orig-A

[FR Doc. 2016-15990 Filed 7-8-16; 8:45 am]

BILLING CODE 4910-13-P